DEPARTMENT OF ENERGY

Federal Energy Regulatory Commission

[Docket No. CP02-55-000]

CMS Trunkline Gas Company, LLC; Notice of Application

January 9, 2002.

Take notice that on December 26, 2001, CMS Trunkline Gas Company, LLC (Trunkline Gas), P.O. Box 4967, Houston, Texas 77210-4967, filed an application in the above-referenced docket number pursuant to section 7(c) of the Natural Gas Act (NGA) and part 157 of the Commission's Rules and Regulations, for a certificate of public convenience and necessity authorizing it to increase the maximum capacity of its LNG metering facilities in Calcasieu Parish, Louisiana. Also, Trunkline Gas requests permission and approval to operate its pipeline system downstream of the LNG metering facilities to accommodate the increased LNG receipt. This proceeding is in conjunction with a filing by CMS Trunkline LNG Company, LLC (Trunkline LNG) in Docket No. CP02-60-000. The application is on file with the Commission and open to public inspection. This filing may be viewed on the web at http://www.ferc.gov using the “RIMS” link, select “Docket#” and follow the instructions (please call (202) 208-2222 for assistance).

In order to meet the contractual obligations with BG LNG Services, Inc. (BG LNG), Trunkline LNG has requested Trunkline Gas to perform modifications to its metering facilities located at the tailgate of the Trunkline LNG Terminal. The requested facility modification will increase the maximum capacity of the LNG metering facilities from 1.0 Bcf/d to 1.3 Bcf/d and allow Trunkline Gas to operate its 30-inch pipeline, along with other paralleling pipelines, to transport up to 1.3 Bcf/d of LNG on its South Louisiana pipeline system. In order to accommodate Trunkline LNG's request, Trunkline Gas is proposing to increase the maximum capacity of its metering facilities at the tailgate of LNG's terminal to 1.3 Bcf/d by replacing two existing 16-inch orifice meter runs with two 16-inch ultrasonic meter runs and associated facilities. This replacement will allow increased deliverability from the LNG Terminal to Trunkline Gas. The remaining three 16-inch orifice meter runs will remain in place.

By modifying the existing metering facilities, the maximum LNG receipt capability of the Trunkline Gas system in Louisiana will increase from 0.7 Bcf/d to 1.2 Bcf/d on a sustained basis and from 1.0 Bcf/d to 1.3 Bcf/d on a peak day basis. All construction will be performed aboveground solely within Trunkline Gas' existing right-of-way easement at the LNG plant. No ground will be disturbed as a result of this replacement, nor will there be an increase in noise or air emissions from the proposed metering facilities. The cost of the proposed project is estimated at $275,000.

Any questions regarding the application be directed to William W. Grygar, Vice President, Rates and Regulatory Affairs, CMS Trunkline LNG Company, LLC, P. O. Box 4967, Houston, Texas 77210-4967 at (713) 989-7000.

There are two ways to become involved in the Commission's review of this project. First, any person wishing to obtain legal status by becoming a party to the proceedings for this project should, on or before January 30, 2002, file with the Federal Energy Regulatory Commission, 888 First Street, NE, Washington, D.C. 20426, a motion to intervene in accordance with the requirements of the Commission's Rules of Practice and Procedure (18 CFR part 385.214 or 385.211) and the Regulations under the NGA (18 CFR part 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR part 385.2001(a)(1)(iii) and the instructions on the Commission's web site under the “e-Filing” link.

If the Commission decides to set the application for a formal hearing before an Administrative Law Judge, the Commission will issue another notice describing that process. At the end of the Commission's review process, a final Commission order approving or denying a certificate will be issued.

C.B. Spencer,
Acting Secretary.

[FR Doc. 02-907 Filed 1-14-02; 8:45 am]

BILLING CODE 6717-01-P